DEPARTMENT OF HEALTH AND HUMAN SERVICES

Centers for Disease Control and Prevention

[Docket No. CDC-2022-0014]

Record of Decision for the Final Supplemental Environmental Impact Statement for the Roybal Campus 2025 Master Plan

AGENCY: Centers for Disease Control and Prevention (CDC), Department of Health and Human Services (HHS).

ACTION: General notice.

SUMMARY: The Centers for Disease Control and Prevention (CDC), within the Department of Health and Human Services (HHS), announces the Record of Decision (ROD) for the Final Supplemental Environmental Impact Statement (SEIS) for CDC's Roybal Campus in Atlanta, Georgia.

DATES: The ROD was signed on November 14, 2022.

FOR FURTHER INFORMATION CONTACT: Thayra Riley, NEPA Coordinator, Office of Safety, Security, and Asset Management, Centers for Disease Control and Prevention, 1600 Clifton Road NE, Mailstop H20-4, Atlanta, Georgia 30329. Email: cdc-roybalga-seis@cdc.gov. Telephone: 770-488-8170.

SUPPLEMENTARY INFORMATION: In accordance with the National Environmental Policy Act of 1969 (NEPA), as implemented by the Council on Environmental Quality regulations (40 CFR 1507.3) and HHS General Administration Manual Part 30 environmental procedures, CDC is issuing a ROD based on the Final SEIS that analyzed the effects of additional proposed components that were not analyzed in the 2014 Final Environmental Impact Statement.

Public Participation

On January 28, 2022, CDC published a Notice of Intent to prepare a SEIS in the Federal Register (87 FR 4603). CDC announced a Notice of Availability (NOA) of the Draft SEIS on July 8, 2022 (87 FR 40844) and the public comment period ended August 22, 2022. During the public comment period, a virtual public meeting was held on July 27, 2022. Two participants attended the meeting. CDC received five public comments. CDC made minor revisions to the Final SEIS based on these comments. The comments and CDC's responses are included in Appendix A of the Final SEIS found in the Supporting Materials tab of the docket. On October 14, 2022, CDC published the NOA for the Final SEIS in the Federal Register (87 FR 62413).

Decision

Based on the Final SEIS, CDC has decided to implement Alternative 1 (Preferred Alternative) as the selected alternative. This Alternative includes the construction and operation of a new Hazardous/Medical/Infectious Waste Incinerator in a new laboratory building, the operation of two proposed emergency standby power diesel generators to support that laboratory, and annual testing of the generators. According to the analysis, no potential significant impacts were identified for the selected alternative.

CDC's decision is based on an analysis of the potential impacts of the alternatives considered in the SEIS weighed against CDC's continuing need to fulfill its unique and critical public health mission and its ability to mitigate in whole or in part the adverse impacts. CDC also considered the input from the public and agencies, such as the U.S. Fish and Wildlife Service, Georgia Department of Natural Resources, Georgia Environmental Protection Division (EPD), and Georgia Historic Preservation Division.

Compliance Requirements

The ROD includes these additional compliance requirements: CDC will obtain an updated Title V Operating Air Permit from Georgia EPD and treat and dispose of waste in accordance with Georgia EPD, Biomedical Waste (Rule 391-3-4-.15).

Availability of the ROD: The ROD is available in the Supplemental Materials tab of the docket found on the Federal eRulemaking Portal: https://www.regulations.gov, identified by Docket No. CDC-2022-0014.

The public is being notified of the ROD through this Federal Register publication and the NOA has been provided to interested parties via electronic mail.

Dated: November 14, 2022.
Angela K. Oliver,
Executive Secretary, Centers for Disease Control and Prevention.

[FR Doc. 2022-25047 Filed 11-16-22; 8:45 am]

BILLING CODE 4163-18-P